DEPARTMENT OF HOMELAND SECURITY

Office of the Secretary

[Docket No. DHS-2011-0084]

Privacy Act of 1974; Department of Homeland Security/U.S. Citizenship and Immigration Services-014 Electronic Immigration System-1 Temporary Accounts and Draft Benefit Requests System of Records

AGENCY: Privacy Office, DHS.

ACTION: Notice of Privacy Act system of records.

SUMMARY: In accordance with the Privacy Act of 1974, the Department of Homeland Security proposes to establish a new Department of Homeland Security system of records titled, “Department of Homeland Security/U.S. Citizenship and Immigration Services-014 Electronic Immigration System-1 Temporary Accounts and Draft Benefit Requests System of Records.” This system of records allows the Department of Homeland Security/U.S. Citizenship and Immigration Services to collect and maintain records on an individual as he or she creates a temporary electronic account and/or drafts a benefit request for submission through U.S. Citizenship and Immigration Services Electronic Immigration System. This newly established system will be included in the Department of Homeland Security's inventory of record systems.

DATES: Submit comments on or before October 27, 2011. This new system will be effective October 27, 2011.

ADDRESSES: You may submit comments, identified by docket number DHS-2011-0084 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Donald K. Hawkins (202-272-8000), Privacy Officer, U.S. Citizenship and Immigration Services, 20 Massachusetts Avenue, NW., Washington, DC 20529. For privacy issues please contact: Mary Ellen Callahan (703-235-0780), Chief Privacy Officer, Privacy Office, Department of Homeland Security, Washington, DC 20528.

SUPPLEMENTARY INFORMATION:

I. Background

In accordance with the Privacy Act of 1974, 5 U.S.C. 552a, the Department of Homeland Security (DHS) U.S. Citizenship and Immigration Services (USCIS) proposes to establish a new DHS system of records titled, “DHS/USCIS-014 Electronic Immigration System-1 Temporary Accounts and Draft Benefit Requests System of Records.”

DHS/USCIS is creating a new electronic environment known as the Electronic Immigration System (USCIS ELIS). USCIS ELIS allows individuals requesting a USCIS benefit to register online and submit certain benefit requests through the online system. This system will improve customer service; increase efficiency for processing benefits; better identify potential national security concerns, criminality, and fraud; and create improved access controls and better auditing capabilities.

DHS and USCIS are promulgating the regulation “Immigration Benefits Business Transformation, Increment I” (August 29, 2011, 76 FR 53764) to allow USCIS to transition to an electronic environment. This regulation will assist USCIS in the transformation of its operations by removing references and processes that inhibit the use of electronic systems or constrain USCIS's ability to respond to new requirements.

Applicants and petitioners (Applicants); co-applicants, beneficiaries, derivatives, dependents, or other persons on whose behalf a benefit request is made or whose immigration status may be derived because of a relationship to an Applicant (Co-Applicants); and their attorneys and representatives accredited by the Board of Immigration Appeals (Representatives) may create individualized online accounts. These online accounts help Applicants and their Representatives file for benefits, track the status of open benefit requests, schedule appointments, change their addresses and contact information, and receive notices and notifications regarding their cases. Through USCIS ELIS, individuals may submit evidence electronically. Once an individual provides biographic information in one benefit request, USCIS ELIS uses that information to pre-populate any future benefit requests. This eases the burden on an individual so he or she does not have to repeatedly type in the same information. USCIS is publishing three SORNs to cover the three distinct phases of the benefit request process of this new electronic environment and the privacy and security protections incorporated into USCIS ELIS. The SORNs address the new electronic environment in the following different processes:

1. Temporary Accounts and Draft Benefit Requests: The Electronic Immigration System-1 Temporary Accounts and Draft Benefit Requests SORN (DHS/USCIS-014) addresses temporary data provided by Applicants or Representatives. This temporary data includes temporary accounts for first-time Applicants and draft benefit request data from first-time Applicants, Applicants with permanent accounts, and Representatives. Applicants first interact with USCIS ELIS by creating a temporary account, setting notification preferences, and drafting the first benefit request. If a first-time Applicant does not formally submit a benefit request within 30 days of opening the temporary account, USCIS ELIS deletes the temporary account and all draft benefit request data. If a first-time Applicant submits the benefit request within 30 days, USCIS ELIS changes the status of the account from temporary to permanent. Applicants with permanent USCIS ELIS accounts or Representatives may also draft benefit requests. USCIS ELIS deletes all draft benefit requests if they are not submitted within 30 days of initiation.

2. Account and Case Management: The Electronic Immigration System-2 Account and Case Management SORN (DHS/USCIS-015) addresses the activities undertaken by USCIS after Applicants or Representatives submit a benefit request. USCIS ELIS uses information provided on initial and subsequent benefit requests and subsequent collections through the Account and Case Management process to create or update USCIS ELIS accounts; collect any missing information; manage workflow; assist USCIS adjudicators as they make a benefit determination; and provide a repository of data to assist with future benefit requests. In addition, USCIS ELIS processes and tracks all actions related to the case, including scheduling appointments and issuing decision notices and/or proofs of benefit.

3. Automated Background Functions: The Electronic Immigration System-3 Automated Background Functions SORN (DHS/USCIS-016) addresses the actions USCIS ELIS takes to detect duplicate and related accounts and identify potential national security concerns, criminality, and fraud to ensure that serious or complex cases receive additional scrutiny.

This SORN addresses the USCIS ELIS temporary account process for first-time Applicants in USCIS ELIS and the draft benefit request process for all Applicants and Representatives. Because USCIS ELIS collects this information before a benefit request is submitted, USCIS does not have an official need-to-know the information in the drafted benefit request. USCIS is segregating temporary account and draft benefit request information from permanent information in USCIS ELIS and preventing USCIS personnel (aside from USCIS ELIS System Administrators as part of their system maintenance duties) from viewing this temporary data until the Applicant or Representative submits the benefit request. USCIS will purge this information from USCIS ELIS if the Applicant or Representative does not submit the benefit request within 30 days of initiation. If the Applicant submits the benefit request, USCIS will convert the temporary account to a permanent account and process the benefit request information according to the guidelines set forth in the Electronic Immigration System-2 Account and Case Management SORN and Electronic Immigration System-3 Automated Background Functions SORN.

Temporary Accounts

USCIS ELIS creates temporary accounts for Applicants that have not previously submitted a benefit request through USCIS ELIS. These temporary accounts permit the first-time Applicant to log in to USCIS ELIS, set notification preferences, and draft a benefit request. If no benefit request is submitted within 30 days of initiation, USCIS ELIS deletes the temporary account. This minimizes the time USCIS ELIS retains personally identifiable information (PII) about individuals that have no pending benefit requests with USCIS, while still giving Applicants time to draft and submit a benefit request. If the Applicant submits a benefit request within the time allotted, USCIS ELIS will convert the temporary account to a permanent account and treat it according to the Electronic Immigration System-2 Account and Case Management SORN and Electronic Immigration System-3 Automated Background Functions SORN.

Draft Benefit Requests

USCIS ELIS retains benefit requests drafted by Applicants or Representatives for 30 days from initiation to further minimize the PII retained by USCIS ELIS. This information is not accessible by USCIS personnel (aside from system administrators for system maintenance) and will only be shared internally for system maintenance purposes and externally to reduce the harm to individuals in the event the system is compromised. However, once a benefit request has been formally submitted to USCIS, the information will be retained and used according to the Electronic Immigration System-2 Account and Case Management SORN and Electronic Immigration System-3 Automated Background Functions SORN in order to maintain USCIS ELIS accounts and determine eligibility for requested benefits.

USCIS ELIS collects information previously collected on different forms. In the first release of USCIS ELIS, USCIS collects information from the following forms:

• I-90—Application to Replace Permanent Residence Card (1615-0082), 08/31/12;

• I-129—Petition for a Nonimmigrant Worker (1615-0009), 10/31/13;

• I-131—Application for Travel Document (1615-0013), 03/31/12;

• I-140—Immigrant Petition for Alien Worker (1615-0015), 01/31/13;

• I-539—Application to Extend/Change Nonimmigrant Status (1615-0003), 02/29/12;

• I-539—Application to Extend/Change Nonimmigrant Status (On-Line Application) (Pending);

• I-765—Application for Employment Authorization (1615-0040), 09/30/11;

• I-821—Application for Temporary Protected Status (1615-0043), 10/31/13;

• I-907—Request for Premium Processing Service (1615-0048), 08/31/11;

• AR-11—Alien Change of Address Card System (1615-0007), 09/30/11; and

• G-28 Notice of Entry of Appearance as Attorney or Accredited Representative (1615-0105), 04/30/12.

Additional forms from which information will be collected will be posted to the USCIS ELIS website as the system develops.

USCIS collects, uses, and maintains temporary account and draft benefit request information pursuant to the Immigration and Nationality Act of 1952, Public Law No. 82-414, sections 101 and 103, as amended.

This newly established system will be included in DHS's inventory of record systems.

II. Privacy Act

The Privacy Act embodies fair information practice principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/USCIS-014 Electronic Immigration System-1 Temporary Accounts and Draft Benefit Requests System of Records.

In accordance with 5 U.S.C. 552a(r), DHS has provided a report of this system of records to the Office of Management and Budget and to Congress.

System of Records:

DHS/USCIS-014

System name:

DHS/USCIS-014 Electronic Immigration System-1 Temporary Accounts and Draft Benefit Requests System of Records.

Security classification:

Unclassified .

System location:

Records are maintained at the USCIS Headquarters in Washington, DC and field offices.

Categories of individuals covered by the system:

Electronic Immigration System-1 Temporary Accounts and Draft Benefit Requests (USCIS ELIS Temporary Accounts and Draft Benefit Requests) stores and/or uses information about individuals who receive or petition for benefits under the Immigration and Nationality Act, as amended. These individuals include: Applicants and petitioners (Applicants); co-applicants, beneficiaries, derivatives, dependents, or other persons on whose behalf a benefit request is made or whose immigration status may be derived because of a relationship to an Applicant (Co-Applicants); attorneys and Board of Immigration Appeals accredited representatives (Representatives); and individuals that assist in the preparation of the benefit request.

Categories of records in the system:

Temporary USCIS ELIS account information includes the following from all of the categories of individuals above. If an Applicant or Representative formally submits a benefit request within the 30-day window, USCIS proposes converting the temporary account to a permanent USCIS ELIS account and retaining the information according to the Electronic Immigration System-2 Account and Case Management SORN and Electronic Immigration System-3 Automated Background Functions SORN. An Applicant's temporary USCIS ELIS account registration information includes the following:

• Valid e-mail address

• Password

• Challenge questions and answers

• Telephone Number (optional)

All benefit requests about the Applicant or Co-Applicant includes the following information:

• Alien Registration Number(s).

• Full name and any alias(es) used.

• Physical and mailing address(es).

• Immigration status.

• Date of birth.

• Place of birth (city, state, and country).

• Country of citizenship.

• Gender.

• Contact information (Phone number(s), E-mail address).

• Military status.

• Government-issued identification (e.g. passport, driver's license):

○ document type.

○ issuing organization.

○ document number.

○ expiration date.

• Benefit requested.

• IP Address.

• Browser information.

• USCIS ELIS account number (for returning Applicants).

The following information may be requested for benefit-specific eligibility:

• Arrival/Departure Information.

• Family Relationships (e.g., Parent, Spouse, Sibling, Child, Other Dependents, etc., as well as polygamy, custody, guardianship, and other relationship issues).

• USCIS Receipt/Case Number.

• Personal Background Information (e.g., involvement with national security threats, Communist party, torture, genocide, killing, injuring, forced sexual contact, limiting or denying others religious beliefs; service in military or other armed groups; work in penal or detention systems, weapons distribution, combat training, etc.).

• Health Information (e.g., communicable disease, physical or mental disorder, prostitution, drug abuse, etc.).

• Education History.

• Work History.

• Financial Information (income, expenses, scholarships, savings, assets, property, financial support, supporter information, life insurance, debts, encumbrances, etc.).

• Social Security Number, if applicable.

• Supporting documentation as necessary (i.e. Birth Certificate).

• Criminal Records.

Preparer information includes:

• Name.

• Organization.

• Physical and Mailing Addresses.

• Phone and Fax Numbers.

• Paid/Not Paid.

• Relationship to Applicant.

Representative information includes:

• Name.

• Law Firm/Recognized Organization.

• Physical and Mailing Addresses.

• Phone and Fax Numbers.

• E-mail Address.

• Attorney Bar Card Number or Equivalent.

• BAR Membership.

• Accreditation Date.

• BIA Representative Accreditation Expiration Date.

• Law Practice Restriction Explanation.

Authority for maintenance of the system:

The Immigration and Nationality Act of 1952, Public Law 82-414, sections 101 and 103, as amended.

Purpose(s):

The purpose of the system collecting this information is to provide an Applicant with a temporary account so that he or she may submit a benefit request through USCIS ELIS for the first time. All draft benefit request information is collected to assist the Applicant or Representative in providing all of the information necessary to request a benefit. If a first-time Applicant does not formally submit a benefit request within 30 days of opening the temporary account, the information will be deleted. If an Applicant or Representative formally submits a benefit request within the 30-day window, USCIS proposes converting the temporary account to a permanent USCIS ELIS account and retaining the information according to the USCIS ELIS Account and Case Management SORN and USCIS ELIS Automated Background Functions SORN.

Routine uses of records maintained in the system, including categories of users and the purposes of such uses:

A. To appropriate agencies, entities, and persons when:

1. DHS suspects or has confirmed that the security or confidentiality of information in the system of records has been compromised;

2. DHS has determined that as a result of the suspected or confirmed compromise there is a risk of harm to economic or property interests, identity theft or fraud, harm to the security or integrity of this system or other systems or programs (whether maintained by DHS or another agency or entity), or harm to the individual that relies upon the compromised information; and

3. The disclosure made to such agencies, entities, and/or persons is reasonably necessary to assist in connection with DHS's efforts to respond to the suspected or confirmed compromise and prevent, minimize, or remedy such harm.

B. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

If a benefit request has been submitted to USCIS within 30 days of initiation, the information will become permanent and shared according to the routine uses listed in the Electronic Immigration System-2 Account and Case Management SORN and Electronic Immigration System-3 Automated Background Functions SORN in order to maintain USCIS ELIS accounts and determine eligibility for requested benefits.

Disclosure to consumer reporting agencies:

None.

Policies and practices for storing, retrieving, accessing, retaining, and disposing of records in the system:

Storage:

Records in this system are stored electronically or on paper in secure facilities in a locked drawer behind a locked door. The records are stored on magnetic disc and/or tape to maintain a real-time copy of the data for disaster recovery purposes. Real-time copies of data are deleted at the same time as the original data.

Retrievability:

Records may be retrieved by any of the data elements listed above or combination thereof.

Safeguards:

Records in this system are safeguarded in accordance with applicable rules and policies, including all applicable DHS automated systems security and access policies. Strict controls have been imposed to minimize the risk of compromising the information that is being stored. Access to the computer system containing the records in this system is limited to those individuals who have a need-to-know the information for the performance of their official duties and who have appropriate clearances or permissions.

Retention and disposal:

USCIS has submitted to the National Archives and Records Administration (NARA) a retention schedule for these records. USCIS proposes that information collected for an Applicant's temporary account and all draft benefit requests will be retained for 30 days after initiation. If a first-time Applicant does not formally submit a benefit request within 30 days of opening the temporary account, the information will be deleted. If an Applicant or Representative formally submits a benefit request within the 30-day window, USCIS proposes converting the temporary account to a permanent USCIS ELIS account and retaining the information according to the Electronic Immigration System-1 Account and Case Management SORN and Electronic Immigration System-2 Automated Background Functions SORN.

System Manager and address:

The DHS system manager is the Chief, Records Division, U.S. Citizenship and Immigration Services, Department of Homeland Security, U.S. Citizenship and Immigration Services, 20 Massachusetts Avenue, NW., Washington, DC 20529.

Notification procedure:

Individuals seeking notification of and access to any record contained in this system of records, or seeking to contest its content, may log in to USCIS ELIS to amend their information within the 30-day window. If they submit a benefit request, the information will still be available by logging in to their USCIS ELIS account and may be amended through the processes described in the USCIS ELIS Account and Case Management SORN and USCIS ELIS Automated Background Functions SORN.

Because of the temporary nature of this data, records will not likely be available for FOIA requests. However, individuals are free to request records pertaining to them by submitting a request in writing to the National Records Center, FOIA/PA Office, P.O. Box 648010, Lee's Summit, MO 64064-8010. Specific FOIA contact information can be found at http://www.dhs.gov/foia under “Contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records your request must conform with the Privacy Act regulations set forth in 6 CFR part 5. You must first verify your identity, meaning that you must provide your full name, current address, and date and place of birth. You must sign your request and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search and your request may be denied due to lack of specificity or lack of compliance with applicable regulations.

Record access procedures:

See “Notification procedure” above.

Contesting record procedures:

See “Notification procedure” above.

Record source categories:

Records are obtained from the Applicant or his or her Representative.

Exemptions claimed for the system:

None.

Dated: September 15, 2011.
Mary Ellen Callahan,
Chief Privacy Officer, Department of Homeland Security.

[FR Doc. 2011-24936 Filed 9-27-11; 8:45 am]

BILLING CODE 9111-97-P